DEPARTMENT OF TRANSPORTATION

Surface Transportation Board

[Ex Parte No. 333]

Meetings of the Board; Sunshine Act

Time and Date: 10 a.m., Friday, May 9, 2003.

Place: The Board's Hearing Room, Surface Transportation Board, 1925 K Street, NW., Washington, DC 20423.

Status: The Board will meet to discuss among themselves the following agenda items. Although the conference is open for public observation, no public participation is permitted.

Matters To Be Considered: STB Finance Docket No. 34079, San Jacinto Rail Limited Construction Exemption and The Burlington Northern and Santa Fe Railway Company Operation Exemption-Build-Out to the Bayport Loop Near Houston, Harris County, TX.

STB Finance Docket No. 34040, Riverview Trenton Railroad Company—Petition for an Exemption from 49 U.S.C. 10901 to Acquire and Operate a Rail Line in Wayne County, MI.

Docket No. 41185, Arizona Public Service Company and Pacificorp v. The Atchison, Topeka and Santa Fe Railway Company.

Embraced case:

STB Docket No. 42077, Arizona Public Service Co. & Pacificorp v. The Burlington Northern and Santa Fe Railway Company.

STB Docket No. 42072, Carolina Power & Light Company v. Norfolk Southern Railway Company.

STB Finance Docket No. 33989, Pejepscot Industrial Park, Inc., d/b/a Grimmel Industries—Petition for Declaratory Order.

STB Docket No. AB-55 (Sub-No. 618), CSX Transportation, Inc.—Discontinuance—at Memphis, in Shelby County, TN.

STB Finance Docket No. 34236, Bolen-Brunson-Bell Lumber Company, Inc. v. CSX Transportation, Inc.

Embraced case:

Ex Parte No. 346 (Sub-No. 25), Rail General Exemption Authority—Lumber or Wood Products.

STB Finance Docket No. 33740, The Burlington Northern and Santa Fe Railway Company—Petition for Declaration or Prescription of Crossing, Trackage, or Joint Use Rights.

STB Finance Docket No. 34293, Metro-North Commuter Railroad Company—Acquisition and Operation Exemption—Line of Norfolk Southern Railway Company and Pennsylvania Lines LLC.

STB Finance Docket No. 34145, Bulkmatic Railroad Corporation—Acquisition Exemption—Bulkmatic Transport Company.

Embraced case:

STB Finance Docket No. 34179, Bulkmatic Railroad Corporation—Operation Exemption—Bulkmatic Transport Company.

STB Finance Docket No. 34284, Southwest Gulf Railroad Company—Construction and Operation Exemption—Medina County, TX.

STB Docket No. AB-596, New York City Economic Development Corporation—Adverse Abandonment—New York Cross Harbor Railroad in Brooklyn, NY.

STB Finance Docket No. 34299, Gulf & Ohio Railways Holding Co., Inc., H. Peter Claussen and Linda C. Claussen—Continuance in Control Exemption—Chattahoochee & Gulf Railroad Co., Inc.

STB Finance Docket No. 34316 (Sub-No. 1), The Burlington Northern and Santa Fe Railway Company—Trackage Rights Exemption—Union Pacific Railroad Company.

STB Finance Docket No. 34320 (Sub-No. 1), Union Pacific Railroad Company—Trackage Rights Exemption—The Burlington Northern and Santa Fe Railway Company.

STB Finance Docket No. 34321 (Sub-No. 1), Union Pacific Railroad Company—Trackage Rights Exemption—The Burlington Northern and Santa Fe Railway Company.

STB Finance Docket No. 34333 (Sub-No. 1), Union Pacific Railroad Company—Trackage Rights Exemption—The Burlington Northern and Santa Fe Railway Company.

STB Ex Parte No. 282 (Sub-No. 20), Railroad Consolidation Procedures—Exemption for Temporary Trackage Rights.

Docket No. AB-389 (Sub-No. 1X), Georgia Great Southern Division, South Carolina Central Railroad Co., Inc.—Abandonment and Discontinuance Exemption—Between Albany and Dawson, in Terrell, Lee and Dougherty Counties, GA.

STB Docket No. MC-F-20995, Peter Pan Bus Lines Trust—Purchase and Acquisition of Control—Arrow Acquisition, LLC, Bonanza Acquisition, LLC, Maine Line, LLC, Pawtuxet Valley, LLC, Peter Pan Boston, LLC, and Peter Pan Bus Lines, Inc.

STB Docket No. WCC-105, DHX, Inc. v. Matson Navigation Company and Sea-land Service, Inc.

CONTACT PERSON FOR MORE INFORMATION: A. Dennis Watson, Office of Congressional and Public Services, Telephone: (202) 565-1596. FIRS: 1-800-877-8339

Dated: April 29, 2003.
Vernon A. Williams,
Secretary.

[FR Doc. 03-11358 Filed 5-2-03; 2:07 pm]

BILLING CODE 4915-00-P